DEPARTMENT OF COMMERCE

Foreign-Trade Zones Board

[B-86-2014]

Foreign-Trade Zone (FTZ) 57—Charlotte, North Carolina Notification of Proposed Export Production Activity Gildan Yarns, LLC (Cotton, Cotton/Polyester Yarns) Salisbury, North Carolina

The Charlotte Regional Partnership, Inc., grantee of FTZ 57, submitted a notification of proposed export production activity to the FTZ Board on behalf of Gildan Yarns, LLC (Gildan), located in Salisbury, North Carolina. The notification conforming to the requirements of the regulations of the FTZ Board (15 CFR 400.22) was received on December 8, 2014.

The Gildan facility is located within Site 19 of FTZ 57. The activity at the facility would involve the production of spun cotton and cotton/polyester yarns for export (no shipments for U.S. consumption would occur). Pursuant to 15 CFR 400.14(b), FTZ activity would be limited to the specific foreign-status materials and components and specific finished products described in the submitted notification (as described below) and subsequently authorized by the FTZ Board.

Production under FTZ procedures could exempt Gildan from customs duty payments on the foreign status material used in export production. The sole foreign-origin material to be used in the export production is polyester staple fiber (duty rate: 4.3%). Customs duties also could possibly be deferred or reduced on foreign status production equipment or the foreign material scrapped or destroyed under U.S. Customs and Border Protection procedures.

Public comment is invited from interested parties. Submissions shall be addressed to the FTZ Board's Executive Secretary at the address below. The closing period for their receipt is January 27, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: December 12, 2014.
Andrew McGilvray,
Executive Secretary.

[FR Doc. 2014-29670 Filed 12-17-14; 8:45 am]

BILLING CODE 3510-DS-P